DEPARTMENT OF THE INTERIOR

National Park Service

[NPS-WASO-NRNHL-DTS#-25647; PPWOCRADI0, PCU00RP14.R50000]

National Register of Historic Places; Notification of Pending Nominations and Related Actions

AGENCY: National Park Service, Interior.

ACTION: Notice.

SUMMARY: The National Park Service is soliciting comments on the significance of properties nominated before May 19, 2018, for listing or related actions in the National Register of Historic Places.

DATES: Comments should be submitted by June 28, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before May 19, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALASKA

Kenai Peninsula Borough

Ch'u'itnu Historic District, Address Restricted, Tyonek vicinity, SG100002618

FLORIDA

Alachua County

Proctor, Carlos and Marjorie Log House and Cottage, 2250 NW 8th Ave., Gainesville, SG100002620

IOWA

Pottawattamie County

Farnsworth, Shepard and Emma, House, 301 S 8th St., Council Bluffs, SG100002621

KANSAS

Dickinson County

Vine Street Historic, 301 to 415 N Vine & 808-810 NW 3rd Sts., Abilene, SG100002622

Douglas County

O'Sullivan, John and Anna Farmstead (Agriculture-Related Resources of Kansas MPS), 710 E 100 Rd., Overbrook vicinity, MP100002623

Kearny County

Deerfield State Bank, 602 Main St., Deerfield, SG100002625

Leavenworth County

Stonehaven Farm, 19801 Tonganoxie Dr., Tonganoxie vicinity, SG100002626

Lyon County

Mouse, Snowden S., Service Station and Tourist Home (Roadside Kansas MPS), 413 E 6th Ave. & 526 N Exchange St., Emporia, MP100002627

McPherson County

McPherson, Community Building, 122 E. Marlin, McPherson, SG100002628

Shawnee County

Shiloh Baptist Church, 1201 SW Buchanan St., Topeka, SG100002629

MARYLAND

Dorchester County

Hughes A.M.E. Chapel, 4201 Maple Dam Rd., Cambridge vicinity, SG100002630

OREGON

Douglas County

Moores, Dr. Robert R. and Mary Helen, House, 1247 SE Kane St., Roseburg, SG100002632

SOUTH DAKOTA

Fall River County

Hot Springs Historic District (Boundary Decrease), Various, Hot Springs, BC100002634

Yankton County

Yankton Historic Commercial District (Boundary Decrease), Various, Yankton, BC100002635

Nominations submitted by Federal Preservation Officers:

The State Historic Preservation Officer reviewed the following nominations and responded to the Federal Preservation Officer within 45 days of receipt of the nominations and supports listing the properties in the National Register of Historic Places.

CALIFORNIA

Marin County

Point Reyes Naval Radio Compass Station, 23250 Sir Francis Drake Blvd., Inverness vicinity, SG100002619

MARYLAND

Washington County

Antietam National Battlefield, N of Sharpsburg off MD 45, Sharpsburg, AD66000038

UTAH

Grand County

Johnson Ranch House, Hastings Rd. 21 mi NW of Crescent Junction, Crescent Junction vicinity, SG100002636

Authority: Section 60.13 of 36 CFR part 60.

Dated: May 22, 2018.
J. Paul Loether,
Chief, National Register of Historic Places/National Historic Landmarks Program and Keeper, National Register of Historic Places.

[FR Doc. 2018-12630 Filed 6-12-18; 8:45 am]

BILLING CODE 4312-52-P